DEPARTMENT OF ENERGY

Federal Energy Regulatory Commission

[Docket Nos. EL08-88-000; ER08-1178-000; ER09-213-000]

California Independent System Operator Corporation; Notice of Submission of Technical Conference Presentations

November 12, 2008.

On November 6, 2008, the Commission convened a staff technical conference in the above-captioned proceedings. The purpose of the technical conference was to further explore the justness and reasonableness of the California Independent System Operator Corporation's (CAISO) Exceptional Dispatch mechanism and proposed mitigation plan. At this time, the Commission hereby posts, in the above-captioned dockets, copies of the Power Point presentations made by the CAISO at the November 6, 2008 technical conference.

All interested persons may file written comments on these presentations and/or issues related to Exceptional Dispatch on or before November 24, 2008. Reply comments will be due on or before December 2, 2008.

Kimberly D. Bose,
Secretary.

[FR Doc. E8-27376 Filed 11-18-08; 8:45 am]

BILLING CODE 6717-01-P